DEPARTMENT OF COMMERCE

International Trade Administration

[C-475-819]

Certain Pasta From Italy: Rescission of Countervailing Duty Administrative Review; 2014

AGENCY: Enforcement and Compliance, International Trade Administration, Department of Commerce.

SUMMARY: The Department of Commerce (the Department) is rescinding the administrative review of the countervailing duty (CVD) order on pasta from Italy for the period of review (POR) January 1, 2014, through December 31, 2014, based on the timely withdrawal of requests for review.

DATES: Effective date: December 17, 2015.

FOR FURTHER INFORMATION CONTACT: Mark Kennedy, AD/CVD Operations, Office I, Enforcement and Compliance, International Trade Administration, U.S. Department of Commerce, 14th Street and Constitution Avenue NW., Washington, DC 20230; telephone: (202) 482-7883.

SUPPLEMENTARY INFORMATION:

Background

On July 1, 2015, the Department published the notice of opportunity to request an administrative review of the CVD order on pasta from Italy for the POR January 1, 2014, through December 31, 2014.¹ On July 29, 2015, Ritrovo, LLC (Ritrovo) requested that the Department conduct an administrative review of La Romagna S.r.l., I Sapori dell'Arca S.r.l., Vero Lucano S.r.I., Azienda Agricola Casina Rossa di De Laurentiis Nicola, Pastificio Bolognese of Angelo R. Dicuonzo, and Ser.com.snc. On the same date, La Fabbrica della Pasta do Gragnano S.a.s. di Antonino Moccia (La Fabbrica) requested an administrative review of its POR sales and of its affiliated producer, Pastificio C.A.M.S. srl. On the same date, La Molisana, SpA (La Molisana) requested an administrative review of itself for this POR.² On July 30, 2015, Gruppo PTGC Oleificio USA Corp. (Gruppo Fooding) requested an administrative review of Poiatti, S.p.A.³ Pursuant to the requests and in accordance with 19 CFR 351.213(b), the Department published a notice initiating an administrative review of Azienda Agricola Casina Rossa di De Laurentiis Nicola, I Sapori dell'Arca S.r.l., La Fabbrica, La Molisana, La Romagna S.r.l., Pastificio Bolognese of Angelo R. Dicuonzo, Ser.com.snc, Vero Lucano S. r. I., Pastificio C.A.M.S. srl, and Poiatti, S.p.A.⁴ On November 30, 2015, La Molisana and Gruppo Fooding timely withdrew their requests for administrative review.⁵ On December 1, 2015, La Fabbrica and Ritrovo timely withdrew their requests for an administrative review.⁶

¹ See Antidumping or Countervailing Duty Order, Finding, or Suspended Investigation; Opportunity to Request Administrative Review, 80 FR 37583 (July 1, 2015).

² See Letter from Ritrovo, “Request for Administrative Review Certain Pasta from Italy,” dated July 29, 2015; Letter from La Molisana, “Certain Pasta From Italy: Request for Review by La Molisana, S.p.A.,” dated July 29, 2015; Letter from La Fabbrica, “Certain Pasta From Italy: Request for Review by La Fabbrica della Pasta do Gragnano S.a.s. di Antonino Moccia and Pastificio C.A.M.S. srl,” dated July 29, 2015.

³ See Letter from Gruppo Fooding, “Certain Pasta From Italy: Request for Administrative Review by Gruppo PTGC Oleificio USA Corp., Importer of Pasta Produced by Poiatti, S.p.A.,” dated July 30, 2015.

⁴ See Initiation of Antidumping and Countervailing Duty Administrative Reviews, 80 FR 53106 (September 2, 2015).

⁵ See Letter from La Molisana, “Certain Pasta From Italy: Withdraw Request for Review,” dated November 30, 2015; Letter from Gruppo Fooding, “Certain Pasta From Italy: Withdraw Request for Review,” dated November 30, 2015.

⁶ See Letter from La Fabbrica, “Certain Pasta From Italy: Withdraw Request for Review,” dated December 1, 2015; Letter from Ritrovo, “Withdrawal of Request for Administrative Review Certain Pasta from Italy,” dated December 1, 2015.

Rescission of Review

Pursuant to 19 CFR 351.213(d)(1), the Department will rescind an administrative review, in whole or in part, if the party or parties that requested a review withdraws the request within 90 days of the publication date of the notice of initiation of the requested review. As noted above, all requests for review were withdrawn, and all parties withdrew their requests within 90 days of the publication date of the notice of initiation. No other parties requested an administrative review of the order. Therefore, in accordance with 19 CFR 351.213(d)(1), we are rescinding this review in its entirety.

Assessment

The Department will instruct U.S. Customs and Border Protection (CBP) to assess CVDs on all appropriate entries of certain pasta from Italy. CYDs shall be assessed at rates equal to the cash deposit of estimated CYDs required at the time of entry, or withdrawal from warehouse, for consumption in accordance with 19 CFR 351.212(c)(1)(i). The Department intends to issue appropriate assessment instructions to CBP 15 days after the date of publication of this notice of rescission of administrative review.

Notifications

This notice also serves as a final reminder to parties subject to administrative protective order (APO) of their responsibility concerning the return or destruction of proprietary information disclosed under an APO in accordance with .19 CFR 351.305(a)(3). Timely written notification of the return or destruction of APO materials, or conversion to judicial protective order, is hereby requested. Failure to comply with the regulations and terms of an APO is a sanctionable violation.

This notice is issued and published in accordance with sections 751(a)(1) and 777(i)(1) of the Tariff Act of 1930, as amended, and 19 CFR 351.213(d)(4).

Dated: December 11, 2015.
Christian Marsh,
Deputy Assistant Secretary for Antidumping and Countervailing Duty Operations.

[FR Doc. 2015-31799 Filed 12-16-15; 8:45 am]

BILLING CODE 3510-DS-P